DEPARTMENT OF JUSTICE

Notice of Lodging of Consent Decree Under the Clean Air Act

Notice is hereby given that on August 16, 2007, a proposed Addendum to the Consent Decree (“Addendum”) in United States v. Valero Energy Company, et al., Civil Action No. SA-07-CA-0683, was lodged with the United States District Court for the Western District of Texas.

In this action, the United States sought a civil penalty and injunctive relief for violations of the Clean Air Act, 42 U.S.C. 7401, et seq., and its implementing regulations, in connection with the petroleum refineries that settling Defendant Premcor Refining Group Inc. operates in Memphis, Tennessee and Port Arthur, Texas, and that settling Defendant Lima Refining Company operates in Lima, Ohio. Specifically, the United States alleged violations of the New Source Performance Standards for petroleum refineries and the National Emission Standards for Hazardous Air Pollutants for Benzene Waste Operations. The Addendum requires Defendant Premcor Refining Group, Inc. and Defendant Lima Refining Company to implement injunctive relief to improve their refineries' performance, including reducing emissions from major refinery units, reducing the flaring of process upset gasses, improving leak detection and repair procedures, and improving the management of benzene wastewater streams. The Addendum also requires the Defendants to pay a $4.25 million civil penalty to the United States, the State of Ohio, and Memphis-Shelby County Health Department. The United States will receive $2.7 million of the civil penalty. The Addendum also requires the Defendants to perform several Supplemental Environmental Projects with a total value of $4.25 million.

The Department of Justice will receive for a period of thirty (30) days from the date of this publication comments relating to the proposed Addendum to the Consent Decree. Comments should be addressed to the Assistant Attorney General, Environment and Natural Resources Division, and either e-mailed to pubcomment-ees.enrd@usdoj.gov, or mailed to P.O. Box 7611, U.S. Department of Justice, Washington, DC 20044-7611, and should refer to United States v. Premcor Refining Group, Inc. et al, D.J. Ref. # 90-5-2-1-06811/1.

The Addendum may be examined at: The Office of the United States Attorney for the Western District of Texas, 601 NW Loop 410, Suite 600, San Antonio, Texas 78216 (contact AUSA Susan Biggs); U.S. EPA Region 6, 1445 Ross Avenue, Suite 1200, Dallas, Texas, 75202 (contact Patricia Welton); U.S. EPA Region 4, 61 Forsyth Street, SW., Atlanta, Georgia, 30303-8960 (contact Marlene Tucker); and U.S. EPA Region 5, 77 West Jackson Blvd. (C-13J), Chicago, Illinois, 60604 (contact Mary T. McAuliffe). During the public comment period, the Consent Decree also may be examined on the following Department of Justice Web site: http://www.usdoj.gov/enrd/Consent_Decrees.html. A copy of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547.

In requesting a copy from the Consent Decree Library, please enclose a check in the amount of $30.75 (25 cents per page reproduction cost) payable to the U.S. Treasury, or, if by e-mail or fax, forward a check in that amount to the Consent Decree Library at the stated address.

Robert Brook,
Assistant Chief, Environmental Enforcement Section, Environment and Natural Resources Division.

[FR Doc. 07-4250 Filed 8-29-07; 8:45 am]

BILLING CODE 4410-15-M